DEPARTMENT OF HEALTH AND HUMAN SERVICES

National Institutes of Health

National Cancer Institute; Amended Notice of Meeting

Notice is hereby given of a change in the meeting of the National Cancer Advisory Board and NCI Board of Scientific Advisors, June 22, 2014, 4 p.m. to June 24, 2014, 12 p.m., National Institutes of Health, Building 31, C Wing, 6th Floor, 31 Center Drive, Conference Room 10, Bethesda, MD 20892 which was published in the Federal Register on May 7, 2014, 79 FR 26259.

The meeting notice is being amended to cancel the Subcommittee meeting on Planning and Budget on June 22, 2014. The meeting notice is also being amended to change the following open and closed session times of the Joint Board meeting. On June 23, 2014, the open session will be from 8:30 a.m. to 6 p.m. On June 24, 2014, the open session will be from 8:30 a.m. to 10:45 a.m. and the closed session will be from 10:45 a.m. to 12 p.m. The meeting is partially closed to the public.

Dated: June 3, 2014.
Melanie J. Gray,
Program Analyst, Office of Federal Advisory Committee Policy.

[FR Doc. 2014-13330 Filed 6-6-14; 8:45 am]

BILLING CODE 4140-01-P